NUCLEAR REGULATORY COMMISSION

Advisory Committee on Reactor Safeguards: Charter Renewal

AGENCY: Nuclear Regulatory Commission.

ACTION: Notice of renewal of the charter of the Advisory Committee on Reactor Safeguards.

SUMMARY: The Advisory Committee on Reactor Safeguards (ACRS) was established by section 29 of the Atomic Energy Act (AEA) of 1954, as amended. Its purpose is to provide advice to the Commission with regard to the hazards of proposed or existing reactor facilities, to review each application for a construction permit or operating license for certain facilities specified in the AEA, and such other duties as the Commission may request. The Nuclear Regulatory Commission has determined that renewal of the charter for the ACRS until December 2, 2026, is in the public interest in connection with the statutory responsibilities assigned to the ACRS.

FOR FURTHER INFORMATION CONTACT: Russell E. Chazell, Office of the Secretary, NRC, Washington, DC 20555; telephone: (301) 415-7469 or at Russell.Chazell@nrc.gov.

SUPPLEMENTARY INFORMATION: The AEA, as amended by Public Law 100-456, also specifies that the Defense Nuclear Safety Board may obtain the advice and recommendations of the ACRS.

Membership on the Committee includes individuals experienced in reactor operations and management; probabilistic risk assessment; analysis of reactor accident phenomena; design of nuclear power plant structures, systems and components; materials science; and mechanical, civil, and electrical engineering.

This action is being taken in accordance with the Federal Advisory Committee Act.

Dated at Rockville, Maryland, this 2nd day of December, 2024.
For the U.S. Nuclear Regulatory Commission.
Russell E. Chazell,
Federal Advisory Committee Management Officer, Office of the Secretary.

[FR Doc. 2024-28432 Filed 12-4-24; 8:45 am]

BILLING CODE 7590-01-P